NUCLEAR REGULATORY COMMISSION

Advisory Committee on Reactor Safeguards; Meeting Notice

In accordance with the purposes of Sections 29 and 182b. of the Atomic Energy Act (42 U.S.C. 2039, 2232b), the Advisory Committee on Reactor Safeguards will hold a meeting on December 6-9, 2000, in Conference Room T-2B3, 11545 Rockville Pike, Rockville, Maryland. The date of this meeting was previously published in the Federal Register on Thursday, October 14, 1999 (64 FR 55787).

Wednesday, December 6, 2000

1 p.m.-1:05 p.m.: Opening Statement by the ACRS Chairman (Open)—The ACRS Chairman will make opening remarks regarding the conduct of the meeting.

1:05 p.m.-3 p.m.: Issues Associated with Core Power Uprates (Open)—The Committee will hear presentations by and hold discussions with representatives of the NRC staff regarding issues associated with core power uprates, including: Staff plans for developing a Standard Review Plan Section for power uprate reviews; staff position regarding the need for applying risk-informed decisionmaking in the review of significant power uprate applications; and other related matters.

3:15 p.m.-4:45 p.m.: Differing Professional Opinion (DPO) on Steam Generator Tube Integrity (Open)—The Committee will hear a report by the Chairman of the Ad Hoc Subcommittee on DPO regarding conclusions and recommendations of the Ad Hoc Subcommittee on the technical merits of the DPO issues, and will meet with representatives of the NRC staff and the DPO author, as needed.

4:45 p.m.-5 p.m.: Subcommittee Report (Open)—The Committee will hear a report by the Chairman of the Thermal-Hydraulic Phenomena Subcommittee regarding the status of review of the GE Nuclear Energy TRACG best-estimate thermal-hydraulic code.

5 p.m.-5:15 p.m.: Subcommittee Report (Open)—The Committee will hear a report by the Chairman of the Plant Systems Subcommittee regarding ABB/CE and Siemens digital I&C applications and insights gained from a meeting with the RSK on digital I&C in Germany during November 2000.

5:30 p.m.-7 p.m.: Discussion of Proposed ACRS Reports (Open)—The Committee will discuss proposed ACRS reports. In addition, it will prepare a response to the Commission request that the ACRS provide a detailed discussion on how the perceived weaknesses with industry-developed thermal-hydraulic codes may adversely affect the NRC's regulatory role and provide more specific recommendations on how those weaknesses should be addressed.

Thursday, December 7, 2000

8:30 a.m.-8:35 a.m.: Opening Statement by the ACRS Chairman (Open)—The ACRS Chairman will make opening remarks regarding the conduct of the meeting.

8:35 a.m.-9:30 a.m.: Meeting with NRC Commissioner Diaz (Open)—The Committee will meet with NRC Commissioner Diaz to discuss the NRC Safety Research Program and other items of mutual interest.

9:45 a.m.-11:45 a.m.: South Texas Project Exemption Request (Open)—The Committee will hear presentations by and hold discussions with representatives of the NRC staff and South Texas Project Nuclear Operating Company (STPNOC) regarding the STPNOC's exemption request to exclude certain components from the scope of special treatment requirements in 10 CFR Part 50 and the associated NRC staff's Draft Safety Evaluation Report.

12:45 p.m.-2:15 p.m.: Control Room Habitability (Open)—The Committee will hear presentations by and hold discussions with representatives of the NRC staff and the nuclear industry regarding issues associated with control room habitability and the staff and industry efforts in resolving those issues.

2:30 p.m.-4 p.m.: Proposed Final Regulatory Guide DG-1053, “Calibration and Dosimetry Methods for Determining Pressure Vessel Neutron Fluence” (Open)—The Committee will hear presentations by and hold discussions with representatives of the NRC staff regarding the proposed final Regulatory Guide DG-1053, including the staff's resolution of public comments.

4 p.m.-5 p.m.: Break and Preparation of Draft ACRS Reports (Open)—Cognizant ACRS members will prepare draft reports, as needed, for consideration by the full Committee.

5 p.m.-7 p.m.: Discussion of Proposed ACRS Reports (Open)—The Committee will discuss proposed ACRS reports.

Friday, December 8, 2000

8:30 a.m.-8:35 a.m.: Opening Statement by the ACRS Chairman (Open)—The ACRS Chairman will make opening remarks regarding the conduct of the meeting.

8:35 a.m.-10 a.m.: Proposed Modifications to the Commission's Safety Goal Policy Statement for Reactors (Open)—The Committee will hear presentations by and hold discussions with representatives of the NRC staff regarding the proposed modifications to the Commission's Safety Goal Policy Statement for reactors.

10:15 a.m.-11:30 a.m.: Annual Report to the Commission on the NRC Safety Research Program (Open)—The Committee will discuss the draft ACRS report to the Commission on the NRC Safety Research Program, and will meet with representatives of the NRC staff, as needed.

1 p.m.-1:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

1:30 p.m.-1:45 p.m.: Reconciliation of ACRS Comments and Recommendations (Open)—The Committee will discuss the responses from the NRC Executive Director for Operations (EDO) to comments and recommendations included in recent ACRS reports and letters. The EDO responses are expected to be made available to the Committee prior to the meeting.

1:45 p.m.-2:15 p.m.: Election of ACRS Officers for CY 2001 (Open)—The Committee will elect a Chairman and Vice Chairman for the ACRS and a Member-at-Large for the Planning and Procedures Subcommittee for CY 2001.

2:15 p.m.-3:15 p.m.: Break and Preparation of Draft ACRS Reports (Open)—Cognizant ACRS members will prepare draft reports, as needed, for consideration by the full Committee.

3:15 p.m.-7 p.m.: Discussion of Proposed ACRS Reports (Open)—The Committee will discuss proposed ACRS reports.

Saturday, December 9, 2000

8:30 a.m.-1 p.m.: Discussion of Proposed ACRS Reports (Open)—The Committee will continue its discussion of proposed ACRS reports.

1 p.m.-1:30 p.m.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

Further information regarding topics to be discussed, whether the meeting has been canceled or rescheduled, the Chairman's ruling on requests for the opportunity to present oral statements, and the time allotted therefor can be obtained by contacting Mr. James E. Lyons (telephone 301-415-7371), between 7:30 a.m. and 4:15 p.m., EST.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment facilities that they use to establish the videoteleconferencing link. The availability of videoteleconferencing services is not guaranteed.

The ACRS meeting dates for Calendar Year 2001 are provided below:

ACRS meeting No. | Meeting dates
| January 2001—No meeting.
479 | February 1-3, 2001.
480 | March 1-3, 2001.
481 | April 5-7, 2001.
482 | May 10-12, 2001.
483 | June 6-8, 2001.
484 | July 11-13, 2001.
| August 2001—No meeting.
485 | September 6-8, 2001.
486 | October 4-6, 2001.
487 | November 8-10, 2001.
488 | December 6-8, 2001.

Dated: November 13, 2000.
Andrew L. Bates,
Advisory Committee Management Officer.

[FR Doc. 00-29460 Filed 11-16-00; 8:45 am]

BILLING CODE 7590-01-P